DEPARTMENT OF VETERANS AFFAIRS

Joint Biomedical Laboratory Research and Development and Clinical Science Research and Development Services Scientific Merit Review Board Subcommittee for Eligibility; Notice of Meeting

The Department of Veterans Affairs (VA) gives notice under the Public Law 92-463 (Federal Advisory Committee Act) that the Subcommittee for Eligibility of the Joint Biomedical Laboratory Research and Development and Clinical Science Research and Development Services Scientific Merit Review Board will meet on Monday, July 20, 2009, from 8 a.m. to 12 p.m. at the St. Gregory Luxury Hotel and Suites, 2033 M Street, NW., Washington, DC.

The purpose of the Merit Review Board is to provide advice on the scientific quality, budget, safety and mission relevance of investigator-initiated research proposals submitted for VA merit review consideration. Proposals submitted for review by the Board involve a wide range of medical specialties within the general areas of biomedical, behavioral and clinical science research.

The subcommittee meeting will be open to the public for approximately one-half hour at the start of the meeting to discuss the general status of the program. The remaining portion of the subcommittee meeting will be closed to the public for the review, discussion, examination, reference to staff, consultant critiques and evaluation, of non-clinician credentials and research proposals to be performed for the Department of Veterans Affairs.

As provided by subsection 10(d) of Public Law 92-463, as amended, closing portions of a subcommittee meeting is in accordance with 5 U.S.C. 552b(c)(6) and (c)(9)(B). Anyone who might plan to attend or would like to obtain a copy of minutes of the subcommittee meeting and roster of the members of the subcommittees should contact LeRoy G. Frey, PhD, Chief, Program Review (121F), Department of Veterans Affairs, 810 Vermont Avenue, NW., Washington, DC 20420 at (202) 461-1664.

Dated: July 1, 2009.
By Direction of the Secretary.
E. Philip Riggin,
Committee Management Officer.

[FR Doc. E9-15972 Filed 7-6-09; 8:45 am]

BILLING CODE 8320-01-P